DEPARTMENT OF THE INTERIOR

Bureau of Land Management

[NV-030-5700-ER; N-76800, N-76897]

Notice of Intent To Prepare an Environmental Impact Statement for the North Valleys Water Projects

AGENCY: Department of the Interior, Bureau of Land Management, Carson City Field Office, Nevada.

ACTION: Notice of Intent to prepare an Environmental Impact Statement (EIS) for the North Valleys Water Projects (Projects) located in Washoe County, Nevada.

SUMMARY: This document provides notice that the Bureau of Land Management (BLM), Carson City Field Office intends to prepare an EIS to address the impacts (direct, indirect, and cumulative) resulting from construction and operation of two separate water supply and transmission projects located in Washoe County, Nevada. Rights-of-way applications were submitted to the BLM from Intermountain Water Supply, LTD and Fish Springs Ranch, LLC for production wells, pump stations, transmission pipelines, terminal water storage tanks and access road rights-of-way.

DATES: This notice initiates the public scoping process. Comments can be submitted in writing to the address listed below and will be accepted throughout the preparation of the Draft EIS. All public meetings will be announced through the local news media, scoping documents, and the BLM Web site at http://www.nv.blm.gov/carson at least 15 days prior to the event. Public meetings will be held throughout the EIS scoping and preparation period.

In order to ensure the widest range of public participation and input, presentations will be held, at a minimum, in Reno and Stead, Nevada. Early participation is encouraged and will assist in preparation of the EIS. In addition to the ongoing public scoping process, formal opportunities for public participation will be provided through comment on the draft and final documents.

ADDRESSES: Written comments should be sent to BLM Carson City Field Office, 5665 Morgan Mill Road, Carson City, NV 89701; Fax (775) 885-6147; email address tknutson@nv.blm.gov. Comments, including names and addresses of respondents, will be available for public review at the above address during regular business hours (7:30 am-5 pm), Monday through Friday, except holidays, and may be published as part of the EIS. Individual respondents may request confidentiality. If you wish to withhold your name or street address from public review or from disclosure under the Freedom of Information Act, you must state this prominently at the beginning of your written comment. However, we will not consider anonymous comments. Such requests will be honored to the extent allowed by law. All submissions from organizations or businesses, and from individuals identifying themselves as representatives or officials of organizations or businesses, will be made available for public inspection in their entirety.

FOR FURTHER INFORMATION: Written comments should be sent to BLM Carson City Field Office, 5665 Morgan Mill Road, Carson City, NV 89701; Fax (775) 885-6147; email address tknutson@nv.blm.gov. For additional information, write to the above address or call Terri Knutson (BLM Environmental Planner) at (775) 885-6156 or Ken Nelson (BLM Realty Specialist) at (775) 885-6114.

SUPPLEMENTARY INFORMATION: The BLM Carson City Field Office received separate water supply and transmission rights-of-way applications from the Fish Springs Ranch, LLC and Intermountain Water Supply, LTD, two independent water companies, proposing projects in Washoe County, Nevada. The BLM determined that due to the same timing, geography, and similarity of the types of actions, the two proposals would be analyzed in one EIS, together known as the North Valleys Water Projects. Each company is proposing to construct and operate water supply and transmission projects to meet present and future water demands of the Stead/Silver Lake/Lemmon Valley areas (North Valleys) in Washoe County. The proposed Projects consist of groundwater production wells, pump station(s), transmission pipeline(s) and terminal water storage tank(s) to convey water. The Fish Springs Ranch LLC proposed pipeline (carrying approximately 8000 acre-feet per year) would begin at the Fish Springs Ranch, and proceed south approximately 33 miles to the North Valleys. The Intermountain Water Supply, LTD proposed pipeline (carrying approximately 3500 acre-feet per year) would begin in Dry Valley, proceed east a short distance before tying into the same general route south to the North Valleys, a total of approximately 24 miles.

The EIS will assess the impacts of the two proposed rights-of-way actions and the No Action alternatives and may consider alternative locations or alignments of the water project facilities, as appropriate. The EIS will address issues brought forth through scoping and will be evaluated by an interdisciplinary team of specialists. Key issues likely to be considered in analyzing each alternative include groundwater hydrology; groundwater quality; threatened and endangered species; cultural resources; land use; and socioeconomic effects of the project. Federal, state, and local agencies and other individuals or organizations who may be interested in or affected by the decisions to be made on the proposed project are invited to participate in the scoping process and, if eligible, may request, or be requested by the BLM, to participate as a cooperating agency.

Dated: July 22, 2003.
John O. Singlaub,
Manager, Carson City Field Office.

[FR Doc. 03-23447 Filed 9-12-03; 8:45 am]

BILLING CODE 4310-HC-P